DEPARTMENT OF JUSTICE

Notice of Lodging of Consent Decree Under the Clean Air Act

Pursuant to 28 CFR 50.7, notice is hereby given that, on August 21, 2009, a proposed Consent Decree in United States v. Vertellus Agriculture & Nutrition Specialties LLC, Civil Action No. 1:09-cv-1030-SEB-TAB (S.D. Ind.) was lodged with the United States District Court for the Southern District of Indiana. The Consent Decree addresses alleged violations of the Clean Air Act, 42 U.S.C. 7401-7671q, and its implementing regulations at a specialty chemical manufacturing facility in Indianapolis, Indiana that is owned and operated by Vertellus Agriculture & Nutrition Specialties LLC (“Vertellus”). The United States alleges that Vertellus has failed to comply with certain requirements governing the control of hazardous air pollutant emissions under Clean Air Act Section 112, 42 U.S.C. 7412, and the implementing regulations at: (i) 40 CFR Part 63, Subpart H (National Emission Standards for Organic Hazardous Air Pollutants for Equipment Leaks); (ii) EPA Reference Method 21 at 40 CFR Part 60, Appendix A; and (iii) 40 CFR Part 63, Subpart GGG (National Emission Standards for Hazardous Air Pollutants for Pharmaceuticals Production). The United States also alleges a violation of Clean Air Act Section 502(a), 42 U.S.C. 7661a(a), for failure to comply with a requirement of Vertellus' permit issued under Title V of the Act.

The proposed Consent Decree would resolve the claims alleged in the United States' Complaint in exchange for the Defendant's commitment to implement appropriate injunctive relief, pay $450,000 civil penalty, and perform a $705,000 Supplemental Environmental Project. Among other things, the injunctive relief provisions of the Decree would require Vertellus to implement an enhanced leak detection and repair program and a program to operate and maintain an incinerator in a manner consistent with good air pollution control practices for minimizing emissions.

The Department of Justice will receive comments relating to the Consent Decree for a period of thirty (30) days from the date of this publication. Comments should be addressed to the Assistant Attorney General, Environment and Natural Resources Division, and mailed either electronically to pubcomment-ees.enrd@usdoj.gov or in hard copy to P.O. Box 7611, U.S. Department of Justice, Washington, DC 20044-7611. Comments should refer to United States v. Vertellus Agriculture & Nutrition Specialties LLC, Civil Action No. 1:09-cv-1030-SEB-TAB (S.D. Ind.) and D.J. Ref. No. 90-5-2-1-09022.

The Consent Decree may be examined at: (1) The offices of the United States Attorney, 10 West Market Street, Suite 2100, Indianapolis, Indiana; and (2) the offices of the U.S. Environmental Protection Agency, Region 5, 77 West Jackson Boulevard, 14th Floor, Chicago, Illinois. During the public comment period, the Consent Decree may also be examined on the following Department of Justice Web site: http://www.usdoj.gov/enrd/Consent_Decrees.html. A copy of the Consent Decree may also be obtained by mail from the Department of Justice Consent Decree Library, P.O. Box 7611, Washington, DC 20044-7611 or by faxing or e-mailing a request to Tonia Fleetwood (tonia.fleetwood@usdoj.gov), fax no. (202) 514-0097, phone confirmation number (202) 514-1547. In requesting a copy from the Consent Decree Library, please enclose a check in the amount of $15.75 (63 pages at 25 cents per page reproduction cost) payable to the U.S. Treasury.

Maureen M. Katz,
Assistant Chief, Environmental Enforcement Section, Environment and Natural Resources Division.

[FR Doc. E9-20602 Filed 8-26-09; 8:45 am]

BILLING CODE 4410-15-P